DEPARTMENT OF COMMERCE

National Oceanic and Atmospheric Administration

50 CFR Part 648

[Docket No. 160706587-6814-01]

RIN 0648-BG21

Fisheries of the Northeastern United States; Atlantic Mackerel, Squid, and Butterfish Fisheries; Amendment 16

AGENCY: National Marine Fisheries Service (NMFS), National Oceanic and Atmospheric Administration (NOAA), Commerce.

ACTION: Proposed rule, request for comments.

SUMMARY: NMFS proposes regulations to implement measures in Amendment 16 to the Atlantic Mackerel, Squid, and Butterfish Fishery Management Plan. The Mid-Atlantic Fishery Management Council developed Amendment 16 to protect deep-sea corals from the impacts of commercial fishing gear in the Mid-Atlantic. Amendment 16 management measures include: A deep-sea coral protection area; a prohibition on the use of bottom-tending commercial fishing gear within the deep-sea coral protection area; an exemption for American lobster and deep-sea red crab pots and traps from the gear prohibition; a vessel monitoring system requirement for limited access Illex squid moratorium permit holders; provisions for vessels transiting through the deep-sea coral area; and expanded framework adjustment provisions for future modifications to the deep-sea coral protection measures. These proposed management measures are intended to protect deep-sea coral and deep-sea coral habitat while promoting the sustainable utilization and conservation of several different marine resources managed under the authority of the Mid-Atlantic Fishery Management Council.

DATES: Public comments must be received by November 1, 2016.

ADDRESSES: Copies of supporting documents used by the Mid-Atlantic Fishery Management Council, including the Environmental Assessment (EA) and Regulatory Impact Review (RIR)/Initial Regulatory Flexibility Analysis (IRFA), are available from: Dr. Christopher M. Moore, Executive Director, Mid-Atlantic Fishery Management Council, 800 North State Street, Suite 201, Dover, DE 19901, telephone (302) 674-2331. The EA/RIR/IRFA is also accessible online at http://www.greateratlantic.fisheries.noaa.gov.

You may submit comments, identified by NOAA-NMFS-2016-0086, by either of the following methods:

• Electronic Submission: Submit all electronic public comments via the Federal e-Rulemaking Portal. Go to www.regulations.gov/#!docketDetail;D=NOAA-NMFS-2016-0086, click the “Comment Now!” icon, complete the required fields, and enter or attach your comments.

• Mail: Submit written comments to NMFS, Greater Atlantic Regional Fisheries Office, 55 Great Republic Drive, Gloucester, MA 01930. Mark the outside of the envelope “Comments on MSB Amendment 16 Proposed Rule.”

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter“N/A” in the required fields if you wish to remain anonymous).

FOR FURTHER INFORMATION CONTACT: Peter Christopher, Supervisory Fishery Policy Analyst, (978) 281-9288, fax (978) 281-9135.

SUPPLEMENTARY INFORMATION:

Background

On January 16, 2013, the Council published a Notice of Intent (NOI) to prepare an Environmental Impact Statement (78 FR 3401) for Amendment 16 to the Atlantic Mackerel, Squid, and Butterfish Fishery Management Plan (FMP) to consider measures to protect deep-sea corals from the impacts of commercial fishing gear in the Mid-Atlantic. The Council conducted scoping meetings during February 2013 to gather public comments on these issues. Following further development of Amendment 16 through 2013 and 2014, the Council conducted public hearings in January 2015. Following public hearings, and with disagreement about the boundaries of the various alternatives, the Council held a workshop with various stakeholders on April 29-30, 2015, to further refine the deep-sea coral area boundaries. The workshop was an example of effective collaboration among fishery managers, the fishing industry, environmental organizations, and the public to develop management recommendations with widespread support. The Council adopted Amendment 16 on June 10, 2015, and submitted Amendment 16 on August 15, 2016, for final review by NMFS, acting on behalf of the Secretary of Commerce.

The Council developed the action, and the measures described in this notice, under the discretionary provisions for deep-sea coral protection in section 303(b) of the Magnuson-Stevens Fishery Conservation and Management Act (Magnuson-Stevens Act). This provision gives the Regional Fishery Management Councils the authority to:

(A) Designate zones where, and periods when, fishing shall be limited, or shall not be permitted, or shall be permitted only by specified types of fishing vessels or with specified types and quantities of fishing gear;

(B) Designate such zones in areas where deep-sea corals are identified under section 408 (this section describes the deep-sea coral research and technology program), to protect deep-sea corals from physical damage from fishing gear or to prevent loss or damage to such fishing gear from interactions with deep-sea corals, after considering long-term sustainable uses of fishery resources in such areas; and

(C) With respect to any closure of an area under the Magnuson-Stevens Act that prohibits all fishing, ensure that such closure:

(i) Is based on the best scientific information available;

(ii) Includes criteria to assess the conservation benefit of the closed area;

(iii) Establishes a timetable for review of the closed area's performance that is consistent with the purposes of the closed area; and

(iv) Is based on an assessment of the benefits and impacts of the closure, including its size, in relation to other management measures (either alone or in combination with such measures), including the benefits and impacts of limiting access to: Users of the area, overall fishing activity, fishery science, and fishery and marine conservation.

Consistent with these provisions, the Council proposed the measures in Amendment 16 to balance the impacts of measures implemented under this discretionary authority with the management objectives of the Mackerel, Squid, and Butterfish FMP and the value of potentially affected commercial fisheries.

Proposed Measures

Deep-Sea Coral Protection Area

Amendment 16 would establish a deep-sea coral protection area that would be in Mid-Atlantic waters only. It would consist of a broad zone that would start at a depth contour of approximately 450 meters (m) and extend to the U.S. Exclusive Economic Zone (EEZ) boundary, and to the north and south to the boundaries of the Mid-Atlantic waters (as defined in the Magnuson-Stevens Act). In addition, the deep-sea coral protection area would include 15 discrete zones that outline deep-sea canyons on the continental shelf in Mid-Atlantic waters. The deep-sea coral area, including both broad and discrete zones, would be one continuous area.

The Council proposed the broad coral zone designation to be precautionary in nature and to freeze the footprint of fishing to protect corals from future expansion of fishing effort into deeper waters. The broad coral zone would be designated with the landward boundary drawn between the 400 m contour as a hard landward boundary and the 500 m contour as a hard seaward boundary. The line created using this technique would focus on the center point (450 m) between the hard landward and seaward boundaries, with a 50-m depth tolerance in either direction as a guide used to draw this line as straight as possible without crossing the hard boundaries. In areas where there is conflict or overlap between this broad zone and any designated discrete zone boundaries, the discrete zone boundaries would be prioritized. From the landward boundary, the broad zone boundaries would extend along the northern and southern boundaries of the Mid-Atlantic management region, and to the edge of the EEZ as the eastward boundary.

The discrete coral zones would be specific submarine canyons and slope areas located in Mid-Atlantic waters. The boundaries were developed collaboratively by participants at the Council's April 29-30, 2015, Deep-sea Corals Workshop in Linthicum, MD. Participants included the Council's Squid, Mackerel, and Butterfish Advisory Panel, the Ecosystems and Ocean Planning Advisory Panel, members of the Deep-sea Corals Fishery Management Action Team, invited deep-sea coral experts, additional fishing industry representatives, and other interested stakeholders. The canyons and slope areas were identified as areas with observed coral presence or highly likely coral presence indicated by modeled suitable habitat. Therefore, prohibiting bottom-tending fishing gear in these areas would prevent interaction with and damage to deep-sea corals that either are known through observation to live in these areas or that are likely to live there. The discrete coral zones are: Block Canyon; Ryan and McMaster Canyons; Emery and Uchupi Canyons; Jones and Babylon Canyons; Hudson Canyon; Mey-Lindenkohl Slope; Spencer Canyon; Wilmington Canyon; North Heyes and South Wilmington Canyons; South Vries Canyon; Baltimore Canyon; Warr and Phoenix Canyon Complex; Accomac and Leonard Canyons; Washington Canyon; and Norfolk Canyon.

Gear Restrictions in the Deep-Sea Coral Area

This action would prohibit the use of bottom-tending commercial fishing gear within the designated deep-sea coral area, including: Bottom-tending otter trawls; bottom-tending beam trawls; hydraulic dredges; non-hydraulic dredges; bottom-tending seines; bottom-tending longlines; sink or anchored gill nets; and pots and traps except those used to fish for red crab and American lobster. The prohibition on these gears would protect deep-sea corals from interaction with and damage from bottom-tending fishing gear.

Vessels would be allowed to transit the deep-sea coral area protection area provided the vessels bring bottom-tending fishing gear onboard the vessel, and reel bottom-tending trawl gear onto the net reel. The Council proposed these slightly less restrictive transiting provisions because the majority of transiting will be through the very narrow canyon heads (i.e., the narrow tips of the canyons that extend landward of the broad coral zone landward boundary). The Council determined that the normal gear stowage requirements, and requirements that gear be unavailable for immediate use, (at 50 CFR 648.2) would be too burdensome for commercial vessels within the narrow areas of some of the discrete coral zones.

Administrative Measures

Vessels issued an Illex squid moratorium permit would be required to have a vessel monitoring system (VMS) installed and vessel operators of these vessels would have to declare Illex squid trips on which 10,000 lb (4.53 mt) or more of Illex squid would be harvested. The Illex squid fishery currently does not have a requirement to install and operate VMS. By requiring Illex squid vessels to have VMS and declare Illex fishing trips prior to leaving port, this measure would facilitate enforcement of the deep-sea coral area and gear restrictions. NMFS notes that all Illex vessels currently have VMS installed and that all of these vessels are already required to declare trips. Therefore, this provision does not create any new operational requirement for Illex squid vessel owners or operators.

This action would expand the framework adjustment provisions in the FMP to facilitate future modifications to the deep-sea coral protection measures. The framework measures would include:

Modifications to coral zone boundaries via framework action;

Modifications to the boundaries of broad or discrete deep-sea coral zones through a framework action; and

Modification of management measures within deep-sea coral protection areas. This alternative would give the Council the option to modify fishing restrictions, exemptions, monitoring requirements, and other management measures within deep-sea coral zones through a framework action, including measures directed at gear and species not currently addressed in the FMP, with the purpose of such measures being to further the FMP's goal of protecting deep-sea corals from physical damage from fishing gear or to prevent loss or damage to such fishing gear from interactions with deep-sea corals. This would also include the ability to add a prohibition on anchoring in deep-sea coral protection areas;

Addition of discrete coral zones; and

Implementation of special access program for deep-sea coral protection area. This alternative would give the Council the option to design and implement a special access program for commercial fishery operations in deep-sea coral zones through a framework action.

Formal Naming of the Deep-Sea Coral Protection Area

The Council recommended that the deep-sea coral protection area should be named in honor of the late Senator Frank R. Lautenberg. Senator Lautenberg was responsible for several important pieces of ocean conservation legislation and authored several provisions included in the most recent reauthorized Magnuson-Stevens Act (2007), including the discretionary provision for corals. Therefore, the Council proposed that the combined broad and discrete zones be officially known as the “Frank R. Lautenberg Deep-Sea Coral Protection Area.”

A Notice of Availability (NOA) for Amendment 16, as submitted by the Council for review by the Secretary of Commerce, was published in the Federal Register on September 2, 2016 (81 FR 60666). The comment period on the Amendment 16 NOA ends on November 1, 2016. Comments submitted on the NOA and/or this proposed rule prior to November 1, 2016, will be considered in NMFS's decision to approve, partially approve, or disapprove Amendment 16. NMFS will consider comments received by the end of the comment period for this proposed rule (November 1, 2016) in its decision regarding measures to be implemented.

The proposed regulations are based on the measures in Amendment 16 that would establish a deep-sea coral protection zone and management measures to limit commercial fishing gear interactions with deep-sea corals. On August 3, 2016, the Council deemed the regulations included in this proposed rule as necessary and appropriate to implement the Council's recommended deep-sea coral protection measures included in Amendment 16.

Classification

Pursuant to section 304(b)(1)(A) of the Magnuson-Stevens Act, the NMFS Assistant Administrator has determined that this proposed rule is consistent with Amendment 16 to the Atlantic Mackerel, Squid, and Butterfish FMP, other provisions of the Magnuson-Stevens Act, and other applicable law, subject to further consideration after public comment.

This proposed rule has been determined to be not significant for purposes of Executive Order 12866.

The Council prepared an IRFA, as required by section 603 of the Regulatory Flexibility Act (RFA). The IRFA describes the economic impact this proposed rule, if adopted, would have on small entities. A summary of the analysis follows. A copy of this analysis is available from the Council or NMFS (see ADDRESSES) or via online at www.greateratlantic.fisheries.noaa.gov.

Description of the Reasons Why Action by the Agency Is Being Considered and Statement of the Objectives of, and Legal Basis for, This Proposed Rule

This action proposes to implement measures to protect deep-sea corals from fishing gear. The preamble to this proposed rule includes a complete description of the reasons why this action is being considered, and the objectives of and legal basis for this action, and these are not repeated here.

Description and Estimate of the Number of Small Entities to Which This Proposed Rule Would Apply

On December 29, 2015, NMFS issued a final rule establishing a small business size standard of $11 million in annual gross receipts for all businesses primarily engaged in the commercial fishing industry (NAICS 11411) for RFA compliance purposes only (80 FR 81194; December 29, 2015). The $11 million standard became effective on July 1, 2016, and is to be used in place of the U.S. Small Business Administration's (SBA) current standards of $20.5 million, $5.5 million, and $7.5 million for the finfish (NAICS 114111), shellfish (NAICS 114112), and other marine fishing (NAICS 114119) sectors of the U.S. commercial fishing industry in all NMFS rules subject to the RFA after July 1, 2016 (Id. at 81194).

The Council prepared the IRFA under the SBA standards and submitted the action for initial NMFS review in March 2016, prior to the July 1, 2016, effective date of NMFS' new size standard for commercial fishing businesses, under the assumption that the proposed rule would also publish prior to the July 1, 2016, effective date. However, NMFS has reviewed the analyses prepared for this regulatory action in light of the new size standard. The new size standard could result in some of the large businesses being considered small, but, as explained below, this does not affect the conclusions of the analysis. The following summarizes the IRFA using the SBA definitions of small businesses.

The proposed deep-sea coral zones measures in association with other management measures within the coral zones could affect any business entity that has an active federal fishing permit and fishes in the proposed zone/gear restricted areas. In order to identify firms, vessel ownership data, which have been added to the permit database, were used to identify all the individuals who own fishing vessels. With this information, vessels were grouped together according to common owners. The resulting groupings were then treated as a fishing business (firm, affiliate, or entity), for purposes of identifying small and large firms. According to the ownership database a total of 113 finfish firms (all small entities) fished in the Council's preferred broad and discrete zones during 2014. Also in 2014, there were 184 small and 16 large shellfish entities. The ownership database shows that small finfish firms that operated in the Council's preferred broad and discrete zones generated average revenues that ranged from $18,344 (in 2013) to $21,055 (in 2014). The ownership database shows that small shellfish firms that operated in the Council's preferred broad and discrete zones generated average revenues that ranged from $35,276 (in 2014) to $58,723 (in 2012). The ownership database shows that large shellfish firms that operated in the Council's preferred broad and discrete zones generated average revenues that ranged from $146,901 (in 2013) to $314,223 (in 2012).

Description of the Projected Reporting, Record-Keeping, and Other Compliance Requirements of This Proposed Rule

The proposed action contains no new collection-of-information requirements subject to review and approval by the Office of Management and Budget (OMB) under the Paperwork Reduction Act (PRA). This action requires Illex squid vessels to install and operate VMS, and to declare Illex squid trips. However, NMFS has determined that all Illex squid vessels that would be affected by this action already have VMS. Because every Illex vessel has VMS, they are already required to enter a trip declaration for every trip. Therefore, there is no additional reporting burden imposed by this action.

Federal Rules Which May Duplicate, Overlap, or Conflict With This Proposed Rule

This action does not duplicate, overlap, or conflict with any other Federal law.

Description of Significant Alternatives to the Proposed Action Which Accomplish the Stated Objectives of Applicable Statues and Which Minimize Any Significant Economic Impact on Small Entities

The Council considered one alternative under the broad coral zone proposed measures that may have had less economic impact on small businesses and that met the Council's objective of protecting deep-sea corals. Using the same landward boundary as the proposed action, but prohibiting fishing with all mobile bottom-tending fishing gear (instead of the proposed prohibition on all bottom-tending gear, both mobile and static), may have had marginally lower overall average revenue reduction when compared to the proposed action because some bottom-tending gears would be allowed in the area.

List of Subjects in 50 CFR Part 648

Fisheries, Fishing, Recordkeeping and reporting requirements.

Dated: September 20, 2016.
Samuel D. Rauch III,
Deputy Assistant Administrator for Regulatory Programs, National Marine Fisheries Service.

For the reasons set out in the preamble, 50 CFR part 648 is proposed to be amended as follows:

PART 648—FISHERIES OF THE NORTHEASTERN UNITED STATES

1. The authority citation for part 648 continues to read as follows:

Authority: 16 U.S.C. 1801 et seq.

2. In § 648.10, add paragraph (b)(11) and (p) to read as follows:

§ 648.10 VMS and DAS requirements for vessel owners/operators.

* * * * *

(b) * * *

(11) Vessels issued an Illex squid moratorium permit.

* * * * *

(p) Illex squid VMS notification requirement. A vessel issued an Illex squid moratorium permit intending to declare into the Illex squid fishery must notify NMFS by declaring an Illex squid trip prior to leaving port at the start of each trip in order to harvest, possess, or land 10,000 lb (4,535.9 kg) or more of Illex squid on that trip.

3. In § 648.14, add paragraph (b)(10) and revise paragraphs (g)(2)(v) introductory text and (g)(2)(v)(A) to read as follows:

§ 648.14 Prohibitions.

* * * * *

(b) * * *

(10) Fish with bottom-tending gear within the Frank R. Lautenberg Deep-sea Coral Protection Area described at § 648.27, unless transiting pursuant to § 648.27(d), fishing lobster trap gear in accordance § 697.21, or fishing red crab trap gear in accordance with § 648.264. Bottom-tending gear includes but is not limited to bottom-tending otter trawls, bottom-tending beam trawls, hydraulic dredges, non-hydraulic dredges, bottom-tending seines, bottom longlines, pots and traps, and sink or anchored gill nets.

* * * * *

(g) * * *

(2) * * *

(v) Reporting requirements in the limited access Atlantic mackerel, longfin squid/butterfish, and Illex squid moratorium fisheries. (A) Fail to declare via VMS into the mackerel, longfin squid/butterfish, or Illex squid fisheries by entering the fishery code prior to leaving port at the start of each trip, if the vessel will harvest, possess, or land Atlantic mackerel, more than 2,500 lb (1,134 kg) of longfin squid, or more than 10,000 lb (4,535.9 kg) of Illex squid, and is issued a Limited Access Atlantic mackerel permit, longfin squid/butterfish moratorium permit, or Illex squid moratorium permit, pursuant to § 648.10.

* * * * *

4. In § 648.25, revise paragraph (a)(1), redesignate paragraphs (a)(2), (a)(3), and (a)(4) as paragraphs (a)(3), (a)(4), and (a)(5), and add paragraph (a)(2) to read as follows:

§ 648.25 Atlantic Mackerel, squid, and butterfish framework adjustments to management measures.

(a) * * *

(1) Adjustment process. The MAFMC shall develop and analyze appropriate management actions over the span of at least two MAFMC meetings. The MAFMC must provide the public with advance notice of the availability of the recommendation(s), appropriate justification(s) and economic and biological analyses, and the opportunity to comment on the proposed adjustment(s) at the first meeting and prior to and at the second MAFMC meeting. The MAFMC's recommendations on adjustments or additions to management measures must come from one or more of the following categories:

(i) Adjustments within existing ABC control rule levels;

(ii) Adjustments to the existing MAFMC risk policy;

(iii) Introduction of new AMs, including sub-ACTs;

(iv) Minimum and maximum fish size;

(v) Gear restrictions, gear requirements or prohibitions;

(vi) Permitting restrictions;

(vii) Recreational possession limit, recreational seasons, and recreational harvest limit;

(viii) Closed areas;

(ix) Commercial seasons, commercial trip limits, commercial quota system, including commercial quota allocation procedure and possible quota set-asides to mitigate bycatch;

(x) Annual specification quota setting process;

(xi) FMP Monitoring Committee composition and process;

(xii) Description and identification of EFH (and fishing gear management measures that impact EFH);

(xiii) Description and identification of habitat areas of particular concern;

(xiv) Overfishing definition and related thresholds and targets;

(xv) Regional gear restrictions, regional season restrictions (including option to split seasons), regional management;

(xvi) Restrictions on vessel size (LOA and GRT) or shaft horsepower;

(xvii) Changes to the SBRM, including the CV-based performance standard, the means by which discard data are collected/obtained, fishery stratification, the process for prioritizing observer sea-day allocations, reports, and/or industry-funded observers or observer set aside programs;

(xviii) Set aside quota for scientific research;

(xix) Process for inseason adjustment to the annual specification;

(xx) Mortality caps for river herring and shad species, time/area management for river herring and shad species, and provisions for river herring and shad incidental catch avoidance program, including adjustments to the mechanism and process for tracking fleet activity, reporting incidental catch events, compiling data, and notifying the fleet of changes to the area(s);

(xxi) The definition/duration of `test tows,' if test tows would be utilized to determine the extent of river herring incidental catch in a particular area(s);

(xxii) The threshold for river herring incidental catch that would trigger the need for vessels to be alerted and move out of the area(s), the distance that vessels would be required to move from the area(s), and the time that vessels would be required to remain out of the area(s);

(xxiii) Modifications to the broad and discrete deep-sea coral zone boundaries and the addition of discrete deep-sea coral zones;

(xxiv) Modifications to the management measures within the Frank R. Lautenberg Deep-sea Coral Protection Area and implementation of special access programs to the Frank R. Lautenberg Deep-sea Coral Protection Area; and

(xxv) Any other management measures currently included in the FMP.

(2) Measures contained within this list that require significant departures from previously contemplated measures or that are otherwise introducing new concepts may require amendment of the FMP instead of a framework adjustment.

* * * * *

5. Add § 648.27 to read as follows:

§ 648.27 Frank R. Lautenberg Deep-Sea Coral Protection Area.

(a) No vessel may fish with bottom-tending gear within the Frank R. Lautenberg Deep-Sea Coral Protection Area described in this section, unless transiting pursuant to paragraph (d) of this section, fishing lobster trap gear in accordance § 697.21, or fishing red crab trap gear in accordance with § 648.264. Bottom-tending gear includes but is not limited to bottom-tending otter trawls, bottom-tending beam trawls, hydraulic dredges, non-hydraulic dredges, bottom-tending seines, bottom longlines, pots and traps, and sink or anchored gillnets. The Frank R. Lautenberg Deep-Sea Coral Protection Area consists of the Broad and Discrete Deep-Sea Coral Zones defined in paragraphs (b) and (c) of this section.

(b) Broad Deep-Sea Coral Zone. The Broad Deep-Sea Coral Zone is bounded on the east by the outer limit of the U.S. Exclusive Economic Zone, and bounded on all other sides by straight lines connecting the following points in the order stated (copies of a chart depicting this area are available from the Regional Administrator upon request). An asterisk (*) in the Discrete Zone column means the point is shared with a Discrete Deep-Sea Coral Zone, as defined in part (c) of this section.

Broad Zone
Point | Latitude | Longitude | Discrete zone
1 | 36°33.02′ N. | 71°29.33′ W.
2 | 36°33.02′ N. | 72°00′ W.
3 | 36°33.02′ N. | 73°00′ W.
4 | 36°33.02′ N. | 74°00′ W.
5 | 36°33.02′ N. | 74°42.14′ W.
6 | 36°34.44′ N. | 74°42.23′ W.
7 | 36°35.53′ N. | 74°41.59′ W.
8 | 36°37.69′ N. | 74°41.51′ W.
9 | 36°42.09′ N. | 74°39.07′ W.
10 | 36°45.18′ N. | 74°38′ W.
11 | 36°45.69′ N. | 74°38.55′ W.
12 | 36°49.17′ N. | 74°38.31′ W.
13 | 36°49.56′ N. | 74°37.77′ W.
14 | 36°51.21′ N. | 74°37.81′ W.
15 | 36°51.78′ N. | 74°37.43′ W.
16 | 36°58.51′ N. | 74°36.51′ W. | (*)
17 | 36°58.62′ N. | 74°36.97′ W. | (*)
18 | 37°4.43′ N. | 74°41.03′ W. | (*)
19 | 37°5.83′ N. | 74°45.57′ W. | (*)
20 | 37°6.97′ N. | 74°40.8′ W. | (*)
21 | 37°4.52′ N. | 74°37.77′ W. | (*)
22 | 37°4.02′ N. | 74°33.83′ W. | (*)
23 | 37°4.52′ N. | 74°33.51′ W. | (*)
24 | 37°4.4′ N. | 74°33.11′ W. | (*)
25 | 37°7.38′ N. | 74°31.95′ W.
26 | 37°8.32′ N. | 74°32.4′ W.
27 | 37°8.51′ N. | 74°31.38′ W.
28 | 37°9.44′ N. | 74°31.5′ W.
29 | 37°16.83′ N. | 74°28.58′ W.
30 | 37°17.81′ N. | 74°27.67′ W.
31 | 37°18.72′ N. | 74°28.22′ W.
32 | 37°22.74′ N. | 74°26.24′ W. | (*)
33 | 37°22.87′ N. | 74°26.16′ W. | (*)
34 | 37°24.44′ N. | 74°28.57′ W. | (*)
35 | 37°24.67′ N. | 74°29.71′ W. | (*)
36 | 37°25.93′ N. | 74°30.13′ W. | (*)
37 | 37°27.25′ N. | 74°30.2′ W. | (*)
38 | 37°28.6′ N. | 74°30.6′ W. | (*)
39 | 37°29.43′ N. | 74°30.29′ W. | (*)
40 | 37°29.53′ N. | 74°29.95′ W. | (*)
41 | 37°27.68′ N. | 74°28.82′ W. | (*)
42 | 37°27.06′ N. | 74°28.76′ W. | (*)
43 | 37°26.39′ N. | 74°27.76′ W. | (*)
44 | 37°26.3′ N. | 74°26.87′ W. | (*)
45 | 37°25.69′ N. | 74°25.63′ W. | (*)
46 | 37°25.83′ N. | 74°24.22′ W. | (*)
47 | 37°25.68′ N. | 74°24.03′ W. | (*)
48 | 37°28.04′ N. | 74°23.17′ W.
49 | 37°27.72′ N. | 74°22.34′ W.
50 | 37°30.13′ N. | 74°17.77′ W.
51 | 37°33.83′ N. | 74°17.47′ W.
52 | 37°35.48′ N. | 74°14.84′ W.
53 | 37°36.99′ N. | 74°14.01′ W.
54 | 37°37.23′ N. | 74°13.02′ W.
55 | 37°42.85′ N. | 74°9.97′ W.
56 | 37°43.5′ N. | 74°8.79′ W.
57 | 37°45.22′ N. | 74°9.2′ W.
58 | 37°45.15′ N. | 74°7.24′ W. | (*)
59 | 37°45.88′ N. | 74°7.44′ W. | (*)
60 | 37°46.7′ N. | 74°5.98′ W. | (*)
61 | 37°49.62′ N. | 74°6.03′ W. | (*)
62 | 37°51.25′ N. | 74°5.48′ W. | (*)
63 | 37°51.99′ N. | 74°4.51′ W. | (*)
64 | 37°51.37′ N. | 74°3.3′ W. | (*)
65 | 37°50.63′ N. | 74°2.69′ W. | (*)
66 | 37°49.62′ N. | 74°2.28′ W. | (*)
67 | 37°50.28′ N. | 74°0.67′ W. | (*)
68 | 37°53.68′ N. | 73°57.41′ W. | (*)
69 | 37°55.07′ N. | 73°57.27′ W. | (*)
70 | 38°3.29′ N. | 73°49.1′ W. | (*)
71 | 38°6.19′ N. | 73°51.59′ W. | (*)
72 | 38°7.67′ N. | 73°52.19′ W. | (*)
73 | 38°9.04′ N. | 73°52.39′ W. | (*)
74 | 38°10.1′ N. | 73°52.32′ W. | (*)
75 | 38°11.98′ N. | 73°52.65′ W. | (*)
76 | 38°13.74′ N. | 73°50.73′ W. | (*)
77 | 38°13.15′ N. | 73°49.77′ W. | (*)
78 | 38°10.92′ N. | 73°50.37′ W. | (*)
79 | 38°10.2′ N. | 73°49.63′ W. | (*)
80 | 38°9.26′ N. | 73°49.68′ W. | (*)
81 | 38°8.38′ N. | 73°49.51′ W. | (*)
82 | 38°7.59′ N. | 73°47.91′ W. | (*)
83 | 38°6.96′ N. | 73°47.25′ W. | (*)
84 | 38°6.51′ N. | 73°46.99′ W. | (*)
85 | 38°5.69′ N. | 73°45.56′ W. | (*)
86 | 38°6.35′ N. | 73°44.8′ W. | (*)
87 | 38°7.5′ N. | 73°45.2′ W. | (*)
88 | 38°9.24′ N. | 73°42.61′ W. | (*)
89 | 38°9.41′ N. | 73°41.63′ W.
90 | 38°15.13′ N. | 73°37.58′ W.
91 | 38°15.25′ N. | 73°36.2′ W. | (*)
92 | 38°16.19′ N. | 73°36.91′ W. | (*)
93 | 38°16.89′ N. | 73°36.66′ W. | (*)
94 | 38°16.91′ N. | 73°36.35′ W. | (*)
96 | 38°17.63′ N. | 73°35.35′ W. | (*)
97 | 38°18.55′ N. | 73°34.44′ W. | (*)
98 | 38°18.38′ N. | 73°33.4′ W. | (*)
99 | 38°19.04′ N. | 73°33.02′ W. | (*)
100 | 38°25.08′ N. | 73°34.99′ W. | (*)
101 | 38°26.32′ N. | 73°33.44′ W. | (*)
102 | 38°29.72′ N. | 73°30.65′ W. | (*)
103 | 38°28.65′ N. | 73°29.37′ W. | (*)
104 | 38°25.53′ N. | 73°30.94′ W. | (*)
105 | 38°25.26′ N. | 73°29.97′ W. | (*)
106 | 38°23.75′ N. | 73°30.16′ W. | (*)
107 | 38°23.47′ N. | 73°29.7′ W. | (*)
108 | 38°22.76′ N. | 73°29.34′ W. | (*)
109 | 38°22.5′ N. | 73°27.63′ W. | (*)
110 | 38°21.59′ N. | 73°26.87′ W. | (*)
111 | 38°23.07′ N. | 73°24.11′ W.
112 | 38°25.83′ N. | 73°22.39′ W.
113 | 38°25.97′ N. | 73°21.43′ W.
114 | 38°34.14′ N. | 73°11.14′ W. | (*)
115 | 38°35.1′ N. | 73°10.43′ W. | (*)
116 | 38°35.94′ N. | 73°11.25′ W. | (*)
117 | 38°37.57′ N. | 73°10.49′ W. | (*)
118 | 38°37.21′ N. | 73°9.41′ W. | (*)
119 | 38°36.72′ N. | 73°8.85′ W. | (*)
120 | 38°43′ N. | 73°1.24′ W. | (*)
121 | 38°43.66′ N. | 73°0.36′ W. | (*)
122 | 38°45′ N. | 73°0.27′ W. | (*)
123 | 38°46.68′ N. | 73°1.07′ W. | (*)
124 | 38°47.54′ N. | 73°2.24′ W. | (*)
125 | 38°47.84′ N. | 73°2.24′ W. | (*)
126 | 38°49.03′ N. | 73°1.53′ W. | (*)
127 | 38°48.45′ N. | 73°1′ W. | (*)
128 | 38°49.15′ N. | 72°58.98′ W. | (*)
129 | 38°48.03′ N. | 72°56.7′ W. | (*)
130 | 38°49.84′ N. | 72°55.54′ W. | (*)
131 | 38°52.4′ N. | 72°52.5′ W. | (*)
132 | 38°53.87′ N. | 72°53.36′ W. | (*)
133 | 38°54.17′ N. | 72°52.58′ W. | (*)
134 | 38°54.7′ N. | 72°50.26′ W. | (*)
135 | 38°57.2′ N. | 72°47.74′ W. | (*)
136 | 38°58.64′ N. | 72°48.35′ W. | (*)
137 | 38°59.3′ N. | 72°47.86′ W. | (*)
138 | 38°59.22′ N. | 72°46.69′ W. | (*)
139 | 39°0.13′ N. | 72°45.47′ W. | (*)
140 | 39°1.69′ N. | 72°45.74′ W. | (*)
141 | 39°1.49′ N. | 72°43.67′ W. | (*)
142 | 39°3.9′ N. | 72°40.83′ W. | (*)
143 | 39°7.35′ N. | 72°41.26′ W. | (*)
144 | 39°7.16′ N. | 72°37.21′ W. | (*)
145 | 39°6.52′ N. | 72°35.78′ W. | (*)
146 | 39°11.73′ N. | 72°25.4′ W. | (*)
147 | 39°11.76′ N. | 72°22.33′ W.
148 | 39°19.08′ N. | 72°9.56′ W. | (*)
149 | 39°25.17′ N. | 72°13.03′ W. | (*)
150 | 39°28.8′ N. | 72°17.39′ W. | (*)
151 | 39°30.16′ N. | 72°20.41′ W. | (*)
152 | 39°31.38′ N. | 72°23.86′ W. | (*)
153 | 39°32.55′ N. | 72°25.07′ W. | (*)
154 | 39°34.57′ N. | 72°25.18′ W. | (*)
155 | 39°34.53′ N. | 72°24.23′ W. | (*)
156 | 39°33.17′ N. | 72°24.1′ W. | (*)
157 | 39°32.07′ N. | 72°22.77′ W. | (*)
158 | 39°32.17′ N. | 72°22.08′ W. | (*)
159 | 39°30.3′ N. | 72°15.71′ W. | (*)
160 | 39°29.49′ N. | 72°14.3′ W. | (*)
161 | 39°29.44′ N. | 72°13.24′ W. | (*)
162 | 39°27.63′ N. | 72°5.87′ W. | (*)
163 | 39°28.26′ N. | 72°2.2′ W. | (*)
164 | 39°29.88′ N. | 72°3.51′ W. | (*)
165 | 39°30.57′ N. | 72°3.47′ W. | (*)
166 | 39°31.28′ N. | 72°2.63′ W. | (*)
167 | 39°31.46′ N. | 72°1.41′ W. | (*)
168 | 39°37.15′ N. | 71°55.85′ W. | (*)
169 | 39°39.77′ N. | 71°53.7′ W. | (*)
170 | 39°41.5′ N. | 71°51.89′ W.
171 | 39°43.84′ N. | 71°44.85′ W. | (*)
172 | 39°48.01′ N. | 71°45.19′ W. | (*)
173 | 39°49.97′ N. | 71°39.29′ W. | (*)
174 | 39°55.08′ N. | 71°18.62′ W. | (*)
175 | 39°55.99′ N. | 71°16.07′ W. | (*)
176 | 39°57.04′ N. | 70°50.01′ W.
177 | 39°55.07′ N. | 70°32.42′ W.
178 | 39°50.24′ N. | 70°27.78′ W.
179 | 39°42.18′ N. | 70°20.09′ W.
180 | 39°34.11′ N. | 70°12.42′ W.
181 | 39°26.04′ N. | 70°4.78′ W.
182 | 39°17.96′ N. | 69°57.18′ W.
183 | 39°9.87′ N. | 69°49.6′ W.
184 | 39°1.77′ N. | 69°42.05′ W.
185 | 38°53.66′ N. | 69°34.53′ W.
186 | 38°45.54′ N. | 69°27.03′ W.
187 | 38°37.42′ N. | 69°19.57′ W.
188 | 38°29.29′ N. | 69°12.13′ W.
189 | 38°21.15′ N. | 69°4.73′ W.
190 | 38°13′ N. | 68°57.35′ W.
191 | 38°4.84′ N. | 68°49.99′ W.
192 | 38°2.21′ N. | 68°47.62′ W.

(c) Discrete Deep-Sea Coral Zones.

(1) Block Canyon. Block Canyon discrete deep-sea coral zone is defined by straight lines connecting the following points in the order stated (copies of a chart depicting this area are available from the Regional Administrator upon request). An asterisk (*) in the Broad Zone column means the point is shared with the Broad Deep-Sea Coral Zone, as defined in part (b) of this section.

Block Canyon
Point | Latitude | Longitude | Broad zone
1 | 39°55.08′ N. | 71°18.62′ W. | (*)
2 | 39°55.99′ N. | 71°16.07′ W. | (*)
3 | 39°49.51′ N. | 71°12.12′ W.
4 | 39°38.09′ N. | 71°9.5′ W.
5 | 39°37.4′ N. | 71°11.87′ W.
6 | 39°47.26′ N. | 71°17.38′ W.
7 | 39°52.6′ N. | 71°17.51′ W.
1 | 39°55.08′ N. | 71°18.62′ W. | (*)

(2) Ryan and McMaster Canyons. Ryan and McMaster Canyons discrete deep-sea coral zone is defined by straight lines connecting the following points in the order stated (copies of a chart depicting this area are available from the Regional Administrator upon request). An asterisk (*) in the Broad Zone column means the point is shared with the Broad Deep-sea Coral Zone, as defined in part (b) of this section.

Ryan and McMaster Canyons
Point | Latitude | Longitude | Broad zone
1 | 39°43.84′ N. | 71°44.85′ W. | (*)
2 | 39°48.01′ N. | 71°45.19′ W. | (*)
3 | 39°49.97′ N. | 71°39.29′ W. | (*)
4 | 39°48.29′ N. | 71°37.18′ W.
5 | 39°42.96′ N. | 71°35.01′ W.
6 | 39°33.43′ N. | 71°27.91′ W.
7 | 39°31.75′ N. | 71°30.77′ W.
8 | 39°34.46′ N. | 71°35.68′ W.
9 | 39°40.12′ N. | 71°42.36′ W.
1 | 39°43.84′ N. | 71°44.85′ W. | (*)

(3) Emery and Uchupi Canyons. Emery and Uchupi Canyons discrete deep-sea coral zone is defined by straight lines connecting the following points in the order stated (copies of a chart depicting this area are available from the Regional Administrator upon request). An asterisk (*) in the Broad Zone column means the point is shared with the Broad Deep-sea Coral Zone, as defined in part (b) of this section.

Emery and Uchupi Canyons
Point | Latitude | Longitude | Broad zone
1 | 39°37.15′ N. | 71°55.85′ W. | (*)
2 | 39°39.77′ N. | 71°53.7′ W. | (*)
3 | 39°39.55′ N. | 71°47.68′ W.
4 | 39°30.78′ N. | 71°36.24′ W.
5 | 39°27.26′ N. | 71°39.13′ W.
6 | 39°28.99′ N. | 71°45.47′ W.
7 | 39°33.91′ N. | 71°52.61′ W.
1 | 39°37.15′ N. | 71°55.85′ W. | (*)

(4) Jones and Babylon Canyons. Jones and Babylon Canyons discrete deep-sea coral zone is defined by straight lines connecting the following points in the order stated (copies of a chart depicting this area are available from the Regional Administrator upon request). An asterisk (*) in the Broad Zone column means the point is shared with the Broad Deep-sea Coral Zone, as defined in part (b) of this section.

Jones and Babylon Canyons
Point | Latitude | Longitude | Broad zone
1 | 39°28.26′ N. | 72°2.2′ W. | (*)
2 | 39°29.88′ N. | 72°3.51′ W. | (*)
3 | 39°30.57′ N. | 72°3.47′ W. | (*)
4 | 39°31.28′ N. | 72°2.63′ W. | (*)
5 | 39°31.46′ N. | 72°1.41′ W. | (*)
6 | 39°30.37′ N. | 71°57.72′ W.
7 | 39°30.63′ N. | 71°55.13′ W.
8 | 39°23.81′ N. | 71°48.15′ W.
9 | 39°23′ N. | 71°52.48′ W.
1 | 39°28.26′ N. | 72°2.2′ W. | (*)

(5) Hudson Canyon. Hudson Canyon discrete deep-sea coral zone is defined by straight lines connecting the following points in the order stated (copies of a chart depicting this area are available from the Regional Administrator upon request). An asterisk (*) in the Broad Zone column means the point is shared with the Broad Deep-Sea Coral Zone, as defined in part (b) of this section.

Hudson Canyon
Point | Latitude | Longitude | Broad zone
1 | 39°19.08′ N. | 72°9.56′ W. | (*)
2 | 39°25.17′ N. | 72°13.03′ W. | (*)
3 | 39°28.8′ N. | 72°17.39′ W. | (*)
4 | 39°30.16′ N. | 72°20.41′ W. | (*)
5 | 39°31.38′ N. | 72°23.86′ W. | (*)
6 | 39°32.55′ N. | 72°25.07′ W. | (*)
7 | 39°34.57′ N. | 72°25.18′ W. | (*)
8 | 39°34.53′ N. | 72°24.23′ W. | (*)
9 | 39°33.17′ N. | 72°24.1′ W. | (*)
10 | 39°32.07′ N. | 72°22.77′ W. | (*)
11 | 39°32.17′ N. | 72°22.08′ W. | (*)
12 | 39°30.3′ N. | 72°15.71′ W. | (*)
13 | 39°29.49′ N. | 72°14.3′ W. | (*)
14 | 39°29.44′ N. | 72°13.24′ W. | (*)
15 | 39°27.63′ N. | 72°5.87′ W. | (*)
16 | 39°13.93′ N. | 71°48.44′ W.
17 | 39°10.39′ N. | 71°52.98′ W.
18 | 39°14.27′ N. | 72°3.09′ W.
1 | 39°19.08′ N. | 72°9.56′ W. | (*)

(6) Mey-Lindenkohl Slope. Mey-Lindenkohl Slope discrete deep-sea coral zone is defined by straight lines connecting the following points in the order stated (copies of a chart depicting this area are available from the Regional Administrator upon request). An asterisk (*) in the Broad Zone column means the point is shared with the Broad Deep-Sea Coral Zone, as defined in part (b) of this section.

Mey-Lindenkohl Slope
Point | Latitude | Longitude | Broad zone
1 | 38°43′ N. | 73°1.24′ W. | (*)
2 | 38°43.66′ N. | 73°0.36′ W. | (*)
3 | 38°45′ N. | 73°0.27′ W. | (*)
4 | 38°46.68′ N. | 73°1.07′ W. | (*)
5 | 38°47.54′ N. | 73°2.24′ W. | (*)
6 | 38°47.84′ N. | 73°2.24′ W. | (*)
7 | 38°49.03′ N. | 73°1.53′ W. | (*)
8 | 38°48.45′ N. | 73°1′ W. | (*)
9 | 38°49.15′ N. | 72°58.98′ W. | (*)
10 | 38°48.03′ N. | 72°56.7′ W. | (*)
11 | 38°49.84′ N. | 72°55.54′ W. | (*)
12 | 38°52.4′ N. | 72°52.5′ W. | (*)
13 | 38°53.87′ N. | 72°53.36′ W. | (*)
14 | 38°54.17′ N. | 72°52.58′ W. | (*)
15 | 38°54.7′ N. | 72°50.26′ W. | (*)
16 | 38°57.2′ N. | 72°47.74′ W. | (*)
17 | 38°58.64′ N. | 72°48.35′ W. | (*)
18 | 38°59.3′ N. | 72°47.86′ W. | (*)
19 | 38°59.22′ N. | 72°46.69′ W. | (*)
20 | 39°0.13′ N. | 72°45.47′ W. | (*)
21 | 39°1.69′ N. | 72°45.74′ W. | (*)
22 | 39°1.49′ N. | 72°43.67′ W. | (*)
23 | 39°3.9′ N. | 72°40.83′ W. | (*)
24 | 39°7.35′ N. | 72°41.26′ W. | (*)
25 | 39°7.16′ N. | 72°37.21′ W. | (*)
26 | 39°6.52′ N. | 72°35.78′ W. | (*)
27 | 39°11.73′ N. | 72°25.4′ W. | (*)
28 | 38°58.85′ N. | 72°11.78′ W.
29 | 38°32.39′ N. | 72°47.69′ W.
30 | 38°34.88′ N. | 72°53.78′ W.
1 | 38°43′ N. | 73°1.24′ W. | (*)

(7) Spencer Canyon. Spencer Canyon discrete deep-sea coral zone is defined by straight lines connecting the following points in the order stated (copies of a chart depicting this area are available from the Regional Administrator upon request). An asterisk (*) in the Broad Zone column means the point is shared with the Broad Deep-Sea Coral Zone, as defined in part (b) of this section.

Spencer Canyon
Point | Latitude | Longitude | Broad zone
1 | 38°34.14′ N. | 73°11.14′ W. | (*)
2 | 38°35.1′ N. | 73°10.43′ W. | (*)
3 | 38°35.94′ N. | 73°11.25′ W. | (*)
4 | 38°37.57′ N. | 73°10.49′ W. | (*)
5 | 38°37.21′ N. | 73°9.41′ W. | (*)
6 | 38°36.72′ N. | 73°8.85′ W. | (*)
7 | 38°36.59′ N. | 73°8.25′ W.
8 | 38°28.94′ N. | 72°58.96′ W.
9 | 38°26.45′ N. | 73°3.24′ W.
1 | 38°34.14′ N. | 73°11.14′ W. | (*)

(8) Wilmington Canyon. Wilmington Canyon discrete deep-sea coral zone is defined by straight lines connecting the following points in the order stated (copies of a chart depicting this area are available from the Regional Administrator upon request). An asterisk (*) in the Broad Zone column means the point is shared with the Broad Deep-sea Coral Zone, as defined in part (b) of this section.

Wilmington Canyon
Point | Latitude | Longitude | Broad zone
1 | 38°19.04′ N. | 73°33.02′ W. | (*)
2 | 38°25.08′ N. | 73°34.99′ W. | (*)
3 | 38°26.32′ N. | 73°33.44′ W. | (*)
4 | 38°29.72′ N. | 73°30.65′ W. | (*)
5 | 38°28.65′ N. | 73°29.37′ W. | (*)
6 | 38°25.53′ N. | 73°30.94′ W. | (*)
7 | 38°25.26′ N. | 73°29.97′ W. | (*)
8 | 38°23.75′ N. | 73°30.16′ W. | (*)
9 | 38°23.47′ N. | 73°29.7′ W. | (*)
10 | 38°22.76′ N. | 73°29.34′ W. | (*)
11 | 38°22.5′ N. | 73°27.63′ W. | (*)
12 | 38°21.59′ N. | 73°26.87′ W. | (*)
13 | 38°18.52′ N. | 73°22.95′ W.
14 | 38°14.41′ N. | 73°16.64′ W.
15 | 38°13.23′ N. | 73°17.32′ W.
16 | 38°15.79′ N. | 73°26.38′ W.
1 | 38°19.04′ N. | 73°33.02′ W. | (*)

(9) North Heyes and South Wilmington Canyons. North Heyes and South Wilmington Canyons discrete deep-sea coral zone is defined by straight lines connecting the following points in the order stated (copies of a chart depicting this area are available from the Regional Administrator upon request). An asterisk (*) in the Broad Zone column means the point is shared with the Broad Deep-Sea Coral Zone, as defined in part (b) of this section.

North Heyes and South Wilmington Canyons
Point | Latitude | Longitude | Broad zone
1 | 38°15.25′ N. | 73°36.2′ W. | (*)
2 | 38°16.19′ N. | 73°36.91′ W. | (*)
3 | 38°16.89′ N. | 73°36.66′ W. | (*)
4 | 38°16.91′ N. | 73°36.35′ W. | (*)
5 | 38°17.63′ N. | 73°35.35′ W. | (*)
6 | 38°18.55′ N. | 73°34.44′ W. | (*)
7 | 38°18.38′ N. | 73°33.4′ W. | (*)
8 | 38°19.04′ N. | 73°33.02′ W. | (*)
9 | 38°15.79′ N. | 73°26.38′ W.
10 | 38°14.98′ N. | 73°24.73′ W.
11 | 38°12.32′ N. | 73°21.22′ W.
12 | 38°11.06′ N. | 73°22.21′ W.
13 | 38°11.13′ N. | 73°28.72′ W.
1 | 38°15.25′ N. | 73°36.2′ W. | (*)

(10) South Vries Canyon. South Vries Canyon discrete deep-sea coral zone is defined by straight lines connecting the following points in the order stated (copies of a chart depicting this area are available from the Regional Administrator upon request). An asterisk (*) in the Broad Zone column means the point is shared with the Broad Deep-Sea Coral Zone, as defined in part (b) of this section.

South Vries Canyon
Point | Latitude | Longitude | Broad zone
1 | 38°6.35′ N. | 73°44.8′ W. | (*)
2 | 38°7.5′ N. | 73°45.2′ W. | (*)
3 | 38°9.24′ N. | 73°42.61′ W. | (*)
4 | 38°3.22′ N. | 73°29.22′ W.
5 | 38°2.38′ N. | 73°29.78′ W.
6 | 38°2.54′ N. | 73°36.73′ W.
1 | 38°6.35′ N. | 73°44.8′ W. | (*)

(11) Baltimore Canyon. Baltimore Canyon discrete deep-sea coral zone is defined by straight lines connecting the following points in the order stated (copies of a chart depicting this area are available from the Regional Administrator upon request). An asterisk (*) in the Broad Zone column means the point is shared with the Broad Deep-Sea Coral Zone, as defined in part (b) of this section.

Baltimore Canyon
Point | Latitude | Longitude | Broad zone
1 | 38°3.29′ N. | 73°49.1′ W. | (*)
2 | 38°6.19′ N. | 73°51.59′ W. | (*)
3 | 38°7.67′ N. | 73°52.19′ W. | (*)
4 | 38°9.04′ N. | 73°52.39′ W. | (*)
5 | 38°10.1′ N. | 73°52.32′ W. | (*)
6 | 38°11.98′ N. | 73°52.65′ W. | (*)
7 | 38°13.74′ N. | 73°50.73′ W. | (*)
8 | 38°13.15′ N. | 73°49.77′ W. | (*)
9 | 38°10.92′ N. | 73°50.37′ W. | (*)
10 | 38°10.2′ N. | 73°49.63′ W. | (*)
11 | 38°9.26′ N. | 73°49.68′ W. | (*)
12 | 38°8.38′ N. | 73°49.51′ W. | (*)
13 | 38°7.59′ N. | 73°47.91′ W. | (*)
14 | 38°6.96′ N. | 73°47.25′ W. | (*)
15 | 38°6.51′ N. | 73°46.99′ W. | (*)
16 | 38°5.69′ N. | 73°45.56′ W. | (*)
17 | 38°6.35′ N. | 73°44.8′ W. | (*)
18 | 38°2.54′ N. | 73°36.73′ W.
19 | 37°59.19′ N. | 73°40.67′ W.
1 | 38°3.29′ N. | 73°49.1′ W. | (*)

(12) Warr and Phoenix Canyon Complex. Warr and Phoenix Canyon Complex discrete deep-sea coral zone is defined by straight lines connecting the following points in the order stated (copies of a chart depicting this area are available from the Regional Administrator upon request). An asterisk (*) in the Broad Zone column means the point is shared with the Broad Deep-Sea Coral Zone, as defined in part (b) of this section.

Warr and Phoenix Canyon Complex
Point | Latitude | Longitude | Broad zone
1 | 37°53.68′ N. | 73°57.41′ W. | (*)
2 | 37°55.07′ N. | 73°57.27′ W. | (*)
3 | 38°3.29′ N. | 73°49.1′ W. | (*)
4 | 37°59.19′ N. | 73°40.67′ W.
5 | 37° 52.5′ N. | 73° 35.28′ W.
6 | 37°50.92′ N. | 73°36.59′ W.
7 | 37°49.84′ N. | 73°47.11′ W.
1 | 37°53.68′ N. | 73°57.41′ W. | (*)

(13) Accomac and Leonard Canyons. Accomac and Leonard Canyons discrete deep-sea coral zone is defined by straight lines connecting the following points in the order stated (copies of a chart depicting this area are available from the Regional Administrator upon request). An asterisk (*) in the Broad Zone column means the point is shared with the Broad Deep-Sea Coral Zone, as defined in part (b) of this section.

Accomac and Leonard Canyons
Point | Latitude | Longitude | Broad zone
1 | 37°45.15′ N. | 74°7.24′ W. | (*)
2 | 37°45.88′ N. | 74°7.44′ W. | (*)
3 | 37°46.7′ N. | 74°5.98′ W. | (*)
4 | 37°49.62′ N. | 74°6.03′ W. | (*)
5 | 37°51.25′ N. | 74°5.48′ W. | (*)
6 | 37°51.99′ N. | 74°4.51′ W. | (*)
7 | 37°51.37′ N. | 74°3.3′ W. | (*)
8 | 37°50.63′ N. | 74°2.69′ W. | (*)
9 | 37°49.62′ N. | 74°2.28′ W. | (*)
10 | 37°50.28′ N. | 74°0.67′ W. | (*)
11 | 37°50.2′ N. | 74°0.17′ W.
12 | 37°50.52′ N. | 73°58.59′ W.
13 | 37°50.99′ N. | 73°57.17′ W.
14 | 37°50.4′ N. | 73°52.35′ W.
15 | 37°42.76′ N. | 73°44.86′ W.
16 | 37°39.96′ N. | 73°48.32′ W.
17 | 37°40.04′ N. | 73°58.25′ W.
18 | 37°44.14′ N. | 74°6.96′ W.
1 | 37°45.15′ N. | 74°7.24′ W. | (*)

(14) Washington Canyon. Washington Canyon discrete deep-sea coral zone is defined by straight lines connecting the following points in the order stated (copies of a chart depicting this area are available from the Regional Administrator upon request). An asterisk (*) in the Broad Zone column means the point is shared with the Broad Deep-Sea Coral Zone, as defined in part (b) of this section.

Washington Canyon
Point | Latitude | Longitude | Broad zone
1 | 37°22.74′ N. | 74°26.24′ W. | (*)
2 | 37°22.87′ N. | 74°26.16′ W. | (*)
3 | 37°24.44′ N. | 74°28.57′ W. | (*)
4 | 37°24.67′ N. | 74°29.71′ W. | (*)
5 | 37°25.93′ N. | 74°30.13′ W. | (*)
6 | 37°27.25′ N. | 74°30.2′ W. | (*)
7 | 37°28.6′ N. | 74°30.6′ W. | (*)
8 | 37°29.43′ N. | 74°30.29′ W. | (*)
9 | 37°29.53′ N. | 74°29.95′ W. | (*)
10 | 37°27.68′ N. | 74°28.82′ W. | (*)
11 | 37°27.06′ N. | 74°28.76′ W. | (*)
12 | 37°26.39′ N. | 74°27.76′ W. | (*)
13 | 37°26.3′ N. | 74°26.87′ W. | (*)
14 | 37°25.69′ N. | 74°25.63′ W. | (*)
15 | 37°25.83′ N. | 74°24.22′ W. | (*)
16 | 37°25.68′ N. | 74°24.03′ W. | (*)
17 | 37°25.08′ N. | 74°23.29′ W.
18 | 37°16.81′ N. | 73°52.13′ W.
19 | 37° 11.27′ N. | 73° 54.05′ W.
20 | 37° 15.73′ N. | 74° 12.2′ W.
1 | 37° 22.74′ N. | 74° 26.24′ W. | (*)

(15) Norfolk Canyon. Norfolk Canyon discrete deep-sea coral zone is defined by straight lines connecting the following points in the order stated (copies of a chart depicting this area are available from the Regional Administrator upon request). An asterisk (*) in the Broad Zone column means the point is shared with the Broad Deep-Sea Coral Zone, as defined in part (b) of this section.

Norfolk Canyon
Point | Latitude | Longitude | Broad zone
1 | 36°58.51′ N. | 74°36.51′ W. | (*)
2 | 36°58.62′ N. | 74°36.97′ W. | (*)
3 | 37°4.43′ N. | 74°41.03′ W. | (*)
4 | 37°5.83′ N. | 74°45.57′ W. | (*)
5 | 37°6.97′ N. | 74°40.8′ W. | (*)
6 | 37°4.52′ N. | 74°37.77′ W. | (*)
7 | 37°4.02′ N. | 74°33.83′ W. | (*)
8 | 37°4.52′ N. | 74°33.51′ W. | (*)
9 | 37°4.4′ N. | 74°33.1′ W. | (*)
10 | 37°4.16′ N. | 74°32.37′ W.
11 | 37°4.4′ N. | 74°30.5′ W.
12 | 37°3.65′ N. | 74°3.66′ W.
13 | 36°57.75′ N. | 74°3.61′ W.
14 | 36°59.77′ N. | 74°30′ W.
15 | 36°58.23′ N. | 74°32.95′ W.
16 | 36°57.99′ N. | 74°34.18′ W.
1 | 36°58.51′ N. | 74°36.51′ W. | (*)

(d) Transiting. Vessels may transit the Broad and Discrete Deep-Sea Coral Zones defined in paragraphs (b) and (c) of this section, provided bottom-tending trawl nets are out of the water and stowed on the reel and any other fishing gear that is prohibited in these areas is onboard, out of the water, and not deployed. Fishing gear is not required to meet the definition of “not available for immediate use” in § 648.2 of this part, when a vessel transits the Broad and Discrete Deep-Sea Coral Zones.

* * * * *

[FR Doc. 2016-23217 Filed 9-26-16; 8:45 am]

BILLING CODE 3510-22-P